DEPARTMENT OF ENERGY

FEDERAL COMMUNICATIONS COMMISSION

Information Collection Being Submitted for Review and Approval to the Office of Management and Budget

AGENCY: Federal Communications Commission (FCC).

ACTION: Notice; request for comments.

SUMMARY: As part of its continuing effort to reduce paperwork burden and as required by the Paperwork Reduction Act (PRA) of 1995 (44 U.S.C. 3502-3520), the FCC invites the general public and other Federal agencies to take this opportunity to comment on the following information collection. Comments are requested concerning: Whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB Control Number. No person shall be subject to any penalty for failing to comply with a collection of information subject to the PRA that does not display a valid OMB Control Number.

DATES: Written PRA comments should be submitted on or before June 9, 2014. If you anticipate that you will be submitting PRA comments, but find it difficult to do so within the period of time allowed by this notice, you should advise the FCC contact listed below as soon as possible.

ADDRESSES: Submit your PRA comments to Nicholas A. Fraser, Office of Management and Budget (OMB), via fax at 202-395-5167, or via the Internet at Nicholas_A._Fraser@omb.eop.gov and to Leslie F. Smith, Office of Managing Director (OMD), Federal Communications Commission (FCC), via the Internet at Leslie.Smith@fcc.gov. To submit your PRA comments by email, please send them to: PRA@fcc.gov.

FOR FURTHER INFORMATION CONTACT: Leslie F. Smith, Office of Managing Director (OMD), Federal Communications Commission (FCC), at 202-418-0217, or via the Internet at: Leslie.Smith@fcc.gov.

SUPPLEMENTARY INFORMATION: OMB Control Number: 3060-0972.

Title: Multi-Association Group (MAG) Plan Order, Parts 54 and 69 Filing Requirements for Regulation of Interstate Services of Non-Price Cap Incumbent Local Exchange Carriers and Interexchange Carriers.

Form Number(s): N/A.

Type of Review: Revision of a currently approved collection.

Respondents: Business or other for-profit.

Number of Respondents and Responses: 202 respondents; 69 responses.

Estimated Time per Response: 20 to 90 hours.

Frequency of Response: On occasion and three year reporting requirements.

Obligation to Respond: Required to obtain or retain benefits.

Total Annual Burden: 1,512 hours.

Total Annual Cost: $50,700.

Privacy Act Impact Assessment: No impact(s).

Nature and Extent of Confidentiality: The Commission is not requesting that the respondents submit confidential information to the FCC. Respondents may, however, request confidential treatment for information they believe to be confidential under 47 CFR 0.459 of the Commission's rules.

Needs and Uses: Following the passage of the Telecommunications Act of 1996 (“1996 Act”), the Commission adopted interstate access charge and universal service support reforms. These reforms were designed to establish a “pro-competitive, deregulatory national policy framework” for the United States telecommunications industry. Specifically, the Commission aligned the interstate access rate structure more closely with the manner in which costs are incurred, and created a universal service support mechanism for rate-of-return carriers (Interstate Common Line Support (ICLS)) to replace implicit support in interstate access charges with explicit support that is portable to all eligible telecommunications carriers. To administer the ICLS mechanism, the Universal Service Administrative Company required, among other things, that rate-of-return carriers collect projected cost and revenue data. In addition, carriers were required to submit tariff data, including certain cost studies, to ensure that their rates are just and reasonable.

Pursuant to the November 18, 2011 USF/ICC Transformation Order (FCC 11-161), the Commission no longer requires rate-of-return carriers to conduct line port cost studies or cost studies to establish rates for certain optional switched access rate elements. Only two information collection requirements were retained:

GSF Allocation: Rate-of-return carriers that use general purpose computers to provide non-regulated billing and collection services are required to allocate a portion of their general purpose computer costs to the billing and collection category, which will require them to determine general purpose computer investment. Carriers may use the general purpose computer investment amount they develop for a period of three years. The USF/ICC Transformation Order does not affect the requirement that carriers allocate these costs as part of the rate development process for common line and special access services.

Transport and Special Access Deaveraging: Rate-of-return carriers may modify their access tariffs to offer transport and special access services at deaveraged rates. The carriers must have a tariffed cross-connect element and define their applicable zones. Rate-of-return carriers do not have to file for approval of their zone plans before making a tariff filing. The USF/ICC Transformation Order capped rate-of-return carriers' switched access rates. Thus, rate-of-return carriers should no longer incur the costs of studies otherwise needed to establish deaveraged switched access transport rates. These carriers, however, still are able to deaverage special access rates because the USF/ICC Transformation Order does not affect these rates.

Federal Communications Commission.
Gloria J. Miles,
Federal Register Liaison, Office of the Secretary, Office of Managing Director.

[FR Doc. 2014-10674 Filed 5-8-14; 8:45 am]

BILLING CODE 6712-01-P